DEPARTMENT OF DEFENSE

Office of the Secretary

[Transmittal No. 15-29]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. Sarah A. Ragan or Ms. Heather N. Harwell, DSCA/LMO, (703) 604-1546 or (703) 607-5339.

The following is a copy of a letter to the Speaker of the House of Representatives, Transmittal 15-29 with attached Policy Justification and Sensitivity of Technology.

Dated: July 10, 2015.
Aaron Siegel,
Alternate OSD Federal Register Liaison Officer, Department of Defense.

Transmittal No. 15-29

Notice of Proposed Issuance of Letter of Offer Pursuant to Section 36(b)(1) of the Arms Export Control Act, as amended

(i) Prospective Purchaser: Lebanon

(ii) Total Estimated Value:

Major Defense Equipment* | $140 million
Other | $ 6 million
TOTAL | $146 million

(iii) Description and Quantity or Quantities of Articles or Services under Consideration for Purchase: 1,000 AGM-114 Hellfire II missiles, containers, repair and return, spare and repair parts, support equipment, publications and technical documentation, personnel training and training equipment, U.S. Government and contractor logistics and technical support services, and other related elements of logistics and program support.

(iv) Military Department: Army (WFB Amendment #1)

(v) Prior Related Cases, if any: FMS Case WFB-$19M-12Nov14

(vi) Sales Commission, Fee, etc., Paid, Offered, or Agreed To Be Paid: None

(vii) Sensitivity of Technology Contained in the Defense Article or Defense Services Proposed To Be Sold: See Attached Annex

(viii) Date Report Delivered to Congress: 04 JUNE 2015

* As defined in Section 47(6) of the Arms Export Control Act.

POLICY JUSTIFICATION

Lebanon—AGM-114 Hellfire II missiles

The Government of Lebanon has requested possible sale of 1,000 AGM-114 Hellfire II missiles, containers, repair and return, spare and repair parts, support equipment, publications and technical documentation, personnel training and training equipment, U.S. Government and contractor logistics and technical support services, and other related elements of logistics and program support. The estimated cost is $146 million.

This proposed sale will enhance the foreign policy and national security of the United States by helping to improve the security of a strategic partner. This proposed sale directly supports the Government of Lebanon and serves the interests of the people of Lebanon and the United States.

The proposed sale will improve Lebanon's capability to meet current and future threats. Lebanon will use the enhanced capability to strengthen its homeland defense and to replenish existing stock levels. Lebanon will have no difficulty absorbing these Hellfire missiles into its armed forces.

The proposed sale of this equipment and support will not alter the basic military balance in the region.

The prime contractor will be Lockheed Martin Missile and Fire Control in Dallas, Texas. There are no known offset agreements proposed in connection with this potential sale.

Implementation of this proposed sale will not require any additional U.S. Government or contractor representatives to Lebanon.

There will be no adverse impact on U.S. defense readiness as a result of this proposed sale.

Transmittal No. 15-29

Notice of Proposed Issuance of Letter of Offer Pursuant to Section 36(b)(1) of the Arms Export Control Act, as amended

Annex

Item No. vii

(vii) Sensitivity of Technology:

1. The AGM-114 Hellfire II missile is an air-to-ground missile used against light armored targets, thin-skinned vehicles, urban structures, bunkers, caves and personnel. The highest level of release for the Hellfire missile is Secret, based upon the software. The highest level of classified information that could be disclosed by a proposed sale or by testing of the end item is Secret; the highest level that must be disclosed for production, maintenance, or training is Confidential. Reverse engineering could reveal confidential information. Vulnerability data, countermeasures, vulnerability/susceptibility analyses, and threat definitions are classified Secret or Confidential.

2. If a technologically advanced adversary were to obtain knowledge of the specific hardware and software elements, the information could be used to develop countermeasures which might reduce weapon system effectiveness or be used in the development of a system with similar or advanced capabilities.

3. A determination has been made that the Government of Lebanon can provide substantially the same degree of protection for the technology being released as the US Government. The sale is necessary in furtherance of the US foreign policy and notional security objectives as outlined in the policy justification of the notification.

4. All defense articles and services listed in this transmittal have been authorized for release and export to Lebanon.

[FR Doc. 2015-17369 Filed 7-14-15; 8:45 am]

BILLING CODE 5001-06-P